DEPARTMENT OF TRANSPORTATION

Federal Highway Administration

Notice of Final Federal Agency Actions on Proposed Highways in Colorado

AGENCY: Federal Highway Administration (FHWA), DOT.

ACTION: Notice of limitation on claims for judicial review of actions by FHWA and other Federal agencies.

SUMMARY: This notice announces actions taken by FHWA and other Federal agencies that are final within the meaning of Section 1308 of the Moving Ahead for Progress in the 21st Century Act. The actions relate to the conversion of existing Elkhorn Avenue, Moraine Avenue, and Riverside Drive roadways from two-way to a 0.9 mile one-way loop through downtown Estes Park, Larimer County, Colorado. These improvements consist of “Phase 1” of the proposed action analyzed in the 2016 Environmental Assessment for the Downtown Estes Loop Project. Phase 1 includes pavement rehabilitation on Elkhorn and Moraine Avenues, realignment and reconstruction of Riverside Drive and reconstruction of the Ivy Street Bridge. Those actions grant approvals for the project.

DATES: By this notice, FHWA is advising the public of final agency actions subject to 23 U.S.C. 139(l)(1). A claim seeking judicial review of the Federal agency actions on the highway project will be barred unless the claim is filed on or before September 29, 2017. If the Federal law that authorizes judicial review of a claim provides a time period of less than 150 days for filing such claim, then that shorter time period still applies.

FOR FURTHER INFORMATION CONTACT: James Herlyck, P.E., Project Manager, Federal Highway Administration, Central Federal Lands Highway Division, 12300 W. Dakota Avenue, Suite 380, Lakewood, Colorado 80228, Telephone (720) 963-3698, Email James.Herlyck@dot.gov. Regular office hours are 8:00 a.m. to 5:00 p.m. (Mountain Time).

SUPPLEMENTARY INFORMATION: Notice is hereby given that FHWA and other Federal agencies have taken final agency actions by issuing approvals for the following highway project in the State of Colorado: Downtown Estes Loop, Phase 1. Project Overview: The project includes the conversion of existing Elkhorn Avenue, Moraine Avenue, and Riverside Drive roadways from two-way to a 0.9 mile one-way loop through downtown Estes Park, Colorado. These improvements consist of “Phase 1” of the proposed action analyzed in the 2016 Environmental Assessment for the Downtown Estes Loop Project. Phase 1 includes pavement rehabilitation on Elkhorn and Moraine Avenues, realignment and reconstruction of Riverside Drive and reconstruction of the Ivy Street Bridge. The actions by the Federal agencies on the project, and the laws under which such actions were taken, are described in the Environmental Assessment (EA) signed on June 29, 2016, in the Finding of No Significant Impact (FONSI) signed April 19, 2017, and in other key project documents. The EA, FONSI, and other key documents for the project are available by contacting FHWA at the addresses provided above. The EA and FONSI documents can be viewed and downloaded from the project Web site at http://downtownestesloop.com/.

This notice applies to all Federal agency decisions, actions, approvals, licenses and permits on the project as of the issuance date of this notice, including but not limited to those arising under the following laws, as amended:

1. General: National Environmental Policy Act [42 U.S.C. 4321-4370h]; Federal-Aid Highway Act [23 U.S.C. 109].

2. Air: Clean Air Act, as amended [42 U.S.C. 7401-7671(q)] (transportation conformity).

3. Land: Section 4(f) of the Department of Transportation Act of 1966 [49 U.S.C. 303].

4. Wildlife: Endangered Species Act [16 U.S.C. 1531-1544]; Fish and Wildlife Coordination Act [16 U.S.C. 661-667(e)]; Migratory Bird Treaty Act [16 U.S.C. 703-712].

5. Historic and Cultural Resources: Section 106 of the National Historic Preservation Act of 1966 [54 U.S.C. 306108]); Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; the Uniform Relocation Assistance and Real Property Acquisition Policies Act of 1970 [42 U.S.C. 61].

7. Wetlands and Water Resources: Clean Water Act [33 U.S.C. 1251-1387] (Section 404, Section 401, Section 319); Land and Water Conservation Fund Act [16 U.S.C. 460l-4-460l-11]; Safe Drinking Water Act [42 U.S.C. 300f-300j-9.]; Rivers and Harbors Act of 1899 [33 U.S.C. 401-406]; Transportation Equity Act for the 21st Century (TEA-21) [23 U.S.C. 103(b)(6)(m), 133(b)(11)] (wetlands mitigation banking); Flood Disaster Protection Act of 1973 [42 U.S.C. 4001-4129].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: April 21, 2017.
Ricardo Suarez,
Division Director, Lakewood, Colorado.

[FR Doc. 2017-08707 Filed 5-1-17; 8:45 am]

BILLING CODE 4910-RY-P